INTERNATIONAL TRADE COMMISSION

[Investigation Nos. 701-TA-449 and 731-TA-1118-1121 (Second Review)]

Light-Walled Rectangular Pipe and Tube From China, Korea, Mexico, and Turkey

Determination

On the basis of the record ¹ developed in the subject five-year reviews, the United States International Trade Commission (“Commission”) determines, pursuant to the Tariff Act of 1930 (“the Act”), that revocation of the countervailing duty order on light-walled rectangular pipe and tube from China and antidumping duty orders on light-walled rectangular pipe and tube from China, Korea, Mexico, and Turkey would be likely to lead to continuation or recurrence of material injury to an industry in the United States within a reasonably foreseeable time.

¹ The record is defined in sec. 207.2(f) of the Commission's Rules of Practice and Procedure (19 CFR 207.2(f)).

Background

The Commission instituted these reviews on May 1, 2019 (84 FR 18577) and determined on August 5, 2019 that it would conduct full reviews (84 FR 44330, August 23, 2019). Notice of the scheduling of the Commission's reviews and of a public hearing to be held in connection therewith was given by posting copies of the notice in the Office of the Secretary, U.S. International Trade Commission, Washington, DC, and by publishing the notice in the Federal Register on January 22, 2020 (85 FR 3717). Subsequently, the Commission cancelled its previously scheduled hearing following a request on behalf of the domestic interested parties (85 FR 31550, May 26, 2020).

The Commission made these determinations pursuant to section 751(c) of the Act (19 U.S.C. 1675(c)). It completed and filed its determinations in these reviews on July 22, 2020. The views of the Commission are contained in USITC Publication 5086 (July 2020), entitled Light-Walled Rectangular Pipe and Tube from China, Korea, Mexico, and Turkey: Investigation Nos. 701-TA-449 and 731-TA-1118-1121 (Second Review).

By order of the Commission.
Issued: July 22, 2020.
Lisa Barton,
Secretary to the Commission.

[FR Doc. 2020-16236 Filed 7-24-20; 8:45 am]

BILLING CODE 7020-02-P